INTERNATIONAL TRADE COMMISSION

[Investigation No. 332-497]

Advice Concerning Possible Modifications to the U.S. Generalized System of Preferences, 2007 Review of Competitive Need Limit Waivers

AGENCY: United States International Trade Commission.

ACTION: Cancellation of public hearing.

SUMMARY: The public hearing on this matter, scheduled for February 28, 2008, has been cancelled following the withdrawal of requests to appear at the hearing by all scheduled witnesses. The deadline for filing post-hearing briefs and other written submissions (5:15 p.m., March 7, 2008) and all other information as described in the notice of institution of the investigation published in the Federal Register of February 4, 2008 (73 F.R. 6526) remains the same as stated in that notice.

ADDRESSES: All Commission offices are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Information may be obtained from Cynthia B. Foreso, Project Leader, Office of Industries (202-205-3348 or cynthia.foreso@usitc.gov) or Eric Land, Deputy Project Leader, Office of Industries (202-205-3349 or eric.land@usitc.gov). For more information on legal aspects of the investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). The public record for this investigation may be viewed on the Commission's electronic docket (EDIS-ONLINE) at http://www.usitc.gov/secretary/edis.htm. Persons with mobility impairments who will need special assistance in gaining access to the Commission should contact the Office of the Secretary at 202-205-2000.

By order of the Commission.
Issued: February 25, 2008.
William R. Bishop,
Hearings and Meetings Coordinator.

[FR Doc. E8-3739 Filed 2-27-08; 8:45 am]

BILLING CODE 7020-02-P